DEPARTMENT OF LABOR

Employment and Training Administration

[TA-W-71,349]

Kroeschell Operations Inc., Pendergrass, GA; Notice of Termination of Investigation

Pursuant to Section 221 of the Trade Act of 1974, as amended, an investigation was initiated in response to a petition filed on June 23, 2009, by three workers of Kroeschell Operations Inc., Pendergrass, Georgia.

The petitioning group of workers is covered by an active petition (TA-W-71,185) filed on June 12, 2009, that is subject of an ongoing investigation for which a determination has not yet been issued. Further investigation in this case would duplicate efforts and serve no purpose; therefore, the investigation under this petition has been terminated.

Signed at Washington, DC, this 7th of August 2009.
Richard Church,
Certifying Officer, Division of Trade Adjustment Assistance.

[FR Doc. E9-20461 Filed 8-25-09; 8:45 am]

BILLING CODE 4510-FN-P